ENVIRONMENTAL PROTECTION AGENCY

[FRL-8924-2]

Proposed Reissuance of a General NPDES Permit for Facilities Related to Oil and Gas Extraction—Permit Number AKG-33-0000

AGENCY: Environmental Protection Agency (EPA).

ACTION: Proposed reissuance of a general permit.

SUMMARY: On January 2, 2009, the general permit (GP) regulating activities related to the extraction of oil and gas on the North Slope of the Brooks Range in the state of Alaska expired. This proposed reissuance of a general permit is intended to regulate activities related to the extraction of oil and gas on the North Slope of the Brooks Range in the state of Alaska plus the proposed area expansion described in the Fact Sheet. The proposed general permit would cover the same discharges as the previous general permit except for the domestic wastewater discharges. The covered discharges include gravel pit dewatering, construction dewatering, hydrostatic test water, mobile spill response, and storm water from industrial activities. The proposed reissuance also includes a new outfall designation for the discharge of secondary containment water. When issued, the proposed permit will establish effluent limitations, standards, prohibitions and other conditions on discharges from covered facilities. These conditions are based on existing national effluent guidelines, the state of Alaska's Water Quality Standards and material contained in the administrative record. A description of the basis for the conditions and requirements of the proposed general permit is given in the Fact Sheet. This is also notice of the draft Section 401 Certification provided by the state of Alaska, the Consistency Determination under the Alaska Coastal Management Program, and the termination of administrative extensions as described in the Fact Sheet.

DATES: Interested persons may submit comments on the proposed reissuance of the general permit to EPA, Region 10 at the address below. Comments must be postmarked by August 17, 2009.

ADDRESSES: Comments on the proposed general permit reissuance should be sent to the attention of the Director, Office of Water & Watersheds, EPA—Region 10, 1200 Sixth Avenue Suite 900 OWW-130, Seattle, WA 98101. Comments may also be submitted electronically to godsey.cindi@epa.gov.

FOR FURTHER INFORMATION CONTACT: Copies of the proposed general permit and Fact Sheet are available upon request. Requests may be made to Audrey Washington at (206) 553-0523 or to Cindi Godsey at (907) 271-6561. Requests may also be electronically mailed to: washington.audrey@epa.gov or godsey.cindi@epa.gov.

These documents may also be found on the EPA Region 10 Web site at http://yosemite.epa.gov/R10/water.nsf/NPDES+Permits/Permits+Homepage then click on “Current public comment opportunities.”

SUPPLEMENTARY INFORMATION:

Executive Order 12866: The Office of Management and Budget has exempted this action from the review requirements of Executive Order 12866 pursuant to Section 6 of that order.

Regulatory Flexibility Act: Under the Regulatory Flexibility Act (RFA), 5 U.S.C. 601 et seq., a Federal agency must prepare an initial regulatory flexibility analysis “for any proposed rule” for which the agency “is required by section 553 of the Administrative Procedure Act (APA), or any other law, to publish general notice of proposed rulemaking.” The RFA exempts from this requirement any rule that the issuing agency certifies “will not, if promulgated, have a significant economic impact on a substantial number of small entities.” EPA has concluded that NPDES general permits are permits, not rulemakings, under the APA and thus not subject to APA rulemaking requirements or the RFA. Notwithstanding that general permits are not subject to the RFA, EPA has determined that this GP, as issued, will not have a significant economic impact on a substantial number of small entities.

Dated: June 23, 2009.
Christine Psyk,
Associate Director, Office of Water & Watersheds, Region 10.

[FR Doc. E9-15422 Filed 7-1-09; 8:45 am]

BILLING CODE 6560-50-P